DEPARTMENT OF EDUCATION

National Advisory Committee on Institutional Quality and Integrity (NACIQI) Meeting

AGENCY: National Advisory Committee on Institutional Quality and Integrity, Office of Postsecondary Education, U.S. Department of Education.

ACTION: Announcement of requests from the public to make oral comments concerning the ten (10) accrediting agencies and one (1) Federal institution scheduled for review.

ADDRESSES: U.S. Department of Education, Office of Postsecondary Education, 1990 K Street, NW., Room 8060, Washington, DC 20006.

SUMMARY: This notice invites the public to make oral comments concerning the agencies/institution scheduled for review at the NACIQI's June 8-10, 2011 meeting. This notice is required under Section 10(a)(2) of the Federal Advisory Committee Act (FACA) and Section 114(d)(1)(B) of the Higher Education Act of 1965, as amended (HEA).

SUPPLEMENTARY INFORMATION: The NACIQI meeting will be held on June 8-10, 2011, from 8:30 a.m. to approximately 5:30 p.m., at the Holiday Inn and Suites, Commonwealth Ballroom, 625 First Street, Alexandria, Virginia 22314.

Changes to the Agenda: Since the publication of the March 9, 2011 Federal Register notice (76 FR 12947), the Department and the NACIQI Chairman changed the order of the scheduled activities. On June 8 and the morning of June 9, 2011, the agenda will now include ten (10) accrediting agencies that submitted petitions for the renewal of recognition and the review of one (1) Federal institution that submitted an application for degree-granting authority. (The agencies and the Federal institution scheduled for review are listed below.)

At approximately 4:00 p.m. on June 8, 2011, the NACIQI will hold an administrative session to conduct the members' annual required ethics training. The training session will not be open to the public. During the afternoon of June 9 and on June 10, 2011, the NACIQI will hear presentations and public comments on issues related to the reauthorization of the HEA. Following public comments on each, the NACIQI will then begin development of recommendations for the Committee's report to the Secretary on the reauthorization of the HEA.

The following agencies/institution are scheduled for review during the June 8 and June 9 agency review portion of the June 2011 NACIQI meeting:

Nationally Recognized Accrediting Agencies

Petitions for Renewal of Recognition

1. Accreditation Commission for Acupuncture and Oriental Medicine.

2. Accrediting Bureau of Health Education Schools.

3. Accrediting Commission of Career Schools and Colleges.

4. Accrediting Council for Independent Colleges and Schools.

5. American Bar Association, Council of the Section of Legal Education and Admission to the Bar.

6. American Osteopathic Association, Commission on Osteopathic College Accreditation.

7. American Psychological Association, Committee on Accreditation.

8. Commission on Accrediting of the Association of Theological Schools.

9. Council on Occupational Education.

10. Transnational Association of Christian Colleges and Schools, Accreditation Commission.

Note: Teacher Education Accreditation Council, Accreditation Committee, was listed in the Federal Register notice (76 FR 12947) published March 9, 2011; however, the agency will not be reviewed at this meeting.

Federal Agency Seeking Degree-Granting Authority

Air University, Maxwell Air Force Base, Montgomery, Alabama (request to award a Doctor of Philosophy degree in Military Strategy).

Under 10 U.S.C., Section 9134, in order for the U.S. Air Force's Air University to offer a new degree program, the Secretary of the U.S. Department of Education must have approved the degree in accordance with the Federal Policy Governing the Granting of Academic Degrees by Federal Agencies and Institutions (approved by a letter, dated December 23, 1954, from the Director, Bureau of the Budget, to the Secretary, Health, Education, and Welfare). Under the policy, the Secretary is required to establish a review committee to advise the Secretary concerning any proposal to authorize the granting of degrees by a Federal agency. After considering the criteria established by the policy, the review committee forwards its report concerning a Federal agency's proposed degree-granting authority to the Secretary, who then forwards the committee's report and the Secretary's recommendation to the Office of Management and Budget and the Department of Defense. The Secretary uses the NACIQI as the review committee required for this purpose.

Instructions for Making a Third-Party Oral Comment Concerning the Agencies Scheduled for Review: There are two methods the public may use to make a third-party oral comment of three to five minutes concerning one of the agencies scheduled for review on June 8 and June 9, 2011.

Method One: Submit a request by e-mail in advance of the meeting to make a third-party oral presentation. All individuals or groups submitting an advance request in accordance with this notice will be afforded an opportunity to speak for a minimum of three minutes each. Each request must concern the recognition of a single agency or institution tentatively scheduled in this notice for review, must be received no later than thirty days after the date of publication of this notice, and must be sent to aslrecordsmanager@ed.gov with the subject line “Oral Comment Request re: (Agency/Institution Name.” Your request (no more than one page maximum) must include:

1. The name, title, affiliation, mailing address, e-mail address, telephone and facsimile numbers, and Web site (if any) of the person/group requesting to speak; and,

2. A brief summary of the principal points to be made during the oral presentation.

Please do not send material directly to NACIQI members.

Method Two: Register on June 8 or June 9, 2011, for an oral presentation opportunity during the NACIQI's deliberations concerning a particular agency or institution scheduled for review. The requestor should provide his or her name, title, affiliation, mailing address, e-mail address, telephone and facsimile numbers, and Web site (if any). A total of up to fifteen minutes during each agency's/institution's review will be allotted for commenters who register on June 8 or June 9, 2011. Individuals or groups that register on June 8 or June 9, 2011, will be selected on a first-come, first-served basis. If selected, each commenter may speak from three to five minutes, depending on the number of individuals or groups who signed up the day of the meeting. The Committee may engage the commenter in discussion afterwards. If a person or group requests to make comments in advance, they cannot also register for an oral presentation opportunity on the meeting day.

Members of the public will be eligible to make third-party oral comments concerning the agencies scheduled for review only in accordance with these instructions. The oral comments made will become part of the official record and will be considered by the Department and NACIQI in their deliberations. Individuals and groups making oral presentations concerning scheduled agencies/institution may not distribute written materials at the meeting.

Oral comments about agencies seeking continued recognition must relate to the Criteria for the Recognition of Accrediting Agencies, which are available at: http://www.ed.gov/admins/finaid/accred/index.html.

Comments concerning the Air University's degree-granting authority request must relate to the criteria used to evaluate the institution. Those criteria may be obtained by submitting a request to: aslrecordsmanager@ed.gov with the subject line listed as “Request for Degree-Granting Authority Criteria.”

Written Comments: This notice invites third-party oral testimony about the agencies scheduled for review, not written comment. The Federal Register notice that requested written comments on the agencies scheduled for review was published in the Federal Register on March 9, 2011 (76 FR 12946). The NACIQI will receive and consider only written comments that were submitted as specified in the above referenced Federal Register notice.

Written and Oral Comments Concerning Reauthorization of the HEA: A separate Federal Register notice will be published that contains instructions for providing written or oral comments about reauthorization of the HEA.

NACIQI's Statutory Authority an Functions: The NACIQI is established under Section 114 of the Higher Education Act (HEA), as amended, 20 U. S. C. 1011C. The NACIQI advises the Secretary of Education about:

—The establishment and enforcement of the Criteria for Recognition of accrediting agencies or associations under Subpart 2, Part H, Title IV, HEA, as amended;

—The recognition of specific accrediting agencies or associations, or a specific State approval agency;

—The preparation and publication of the list of nationally recognized accrediting agencies and associations;

—The eligibility and certification process for institutions of higher education under Title IV, HEA;

—The relationship between: (1) Accreditation of institutions of higher education and the certification and eligibility of such institutions, and (2) State licensing responsibilities with respect to such institutions; and,

—Any other advisory functions relating to accreditation and institutional eligibility that the Secretary may prescribe.

Access to Records of the Meeting: The Department will post the official report of the meeting on the NACIQI Web site shortly after the meeting. Pursuant to the FACA, the public may also inspect the materials at 1990 K Street, NW., Washington, DC, by e-mailing aslrecordsmanager@ed.gov or by calling (202) 219-7067 to schedule an appointment.

Reasonable Accommodations: Individuals who will need accommodations for a disability in order to attend the June 8-10, 2011 meeting (i.e., interpreter services, assistive listening devices, and/or materials in alternative format), should contact Department staff by telephone: (202) 219-7011; or, e-mail: aslrecordsmanager@ed.gov, no later than May 15, 2011. We will attempt to meet requests after this date, but we cannot guarantee the availability of the requested accommodation. The meeting site is accessible.

FOR FURTHER INFORMATION CONTACT: Contact Melissa Lewis, Executive Director, NACIQI, U.S. Department of Education, Room 8060, 1990 K Street, NW., Washington, DC 20006, telephone: (202) 219-7009; e-mail: Melissa.Lewis@ed.gov. Individuals who use a telecommunications device for the deaf (TDD) may call the Federal Information Relay Service at 1-800-877-8339, between 8:00 a.m. and 8:00 p.m., Eastern Standard Time, Monday through Friday.

Electronic Access to This Document: The official version of this document is the document published in the Federal Register. Free Internet access to the official edition of the Federal Register and the Code of Federal Regulations is available via the Federal Digital System at: http://www.gpo.gov/fdsys . At this site you can view this document, as well as all other documents of this Department published in the Federal Register, in text or Adobe Portable Document Format (PDF). To use PDF, you must have Adobe Acrobat Reader, which is available free at this site.

You may also access documents of the Department published in the Federal Register by using the article search feature at http://www.federalregister.gov. Specifically, through the advanced search feature at this site, you can limit your search to documents published by the Department.

Eduardo M. Ochoa,
Assistant Secretary for Postsecondary Education.

[FR Doc. 2011-10033 Filed 4-25-11; 8:45 am]

BILLING CODE 4000-01-P